DEPARTMENT OF COMMERCE

National Oceanic and Atmospheric Administration

Agency Information Collection Activities; Submission to the Office of Management and Budget (OMB) for Review and Approval; Comment Request; Western and Central Pacific Fisheries Convention Vessel Information Family of Forms

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 6, 2024, during a 60-day comment period. This notice allows for an additional 30 days for public comments.

Agency: National Oceanic and Atmospheric Administration, Commerce.

Title: Western and Central Pacific Fisheries Convention Vessel Information Family of Forms.

OMB Control Number: 0648-0595.

Form Number(s): None.

Type of Request: Regular submission [Revision and extension of a current information collection].

Number of Respondents: 226.

Average Hours per Response: 3.5 total hours. 2 hours for Foreign EEZ form, 1 hour for WCPFC Area Endorsement form, and 0.5 hour for Request for IMO Ship Identification Number.

Total Annual Burden Hours: 44 hours.

Needs and Uses: This request is for a revision and extension of the current information collection. The revision will include the following: A section at the beginning of the Area Endorsement form, paper, and online format, was added for vessel IMO numbers to be included, alongside the Official Number and Vessel Name sections.

National Marine Fisheries Service (NMFS) administers regulations that implement decisions of the Commission for the Conservation and Management of Highly Migratory Fish Stocks in the Western and Central Pacific Ocean (WCPFC or Commission). The regulations require for the owners or operators of U.S. vessels to (1) apply for and obtain a WCPFC Area Endorsement if the vessel is used for fishing for highly migratory species (HMS) on the high seas in the WCPFC area (or Convention Area) (50 CFR 300.212), (2) complete and submit a Foreign Exclusive Economic Zone (EEZ) Form if the vessel is used for fishing for HMS in the Convention Area in areas under the jurisdiction of any nation other than the United States (50 CFR 300.213), and (3) request and obtain an IMO number if the vessel is used for fishing for HMS on the high seas or in areas under the jurisdiction of any nation other than the United States (50 CFR 300.217(c)).

Affected Public: Business or other for-profit organizations; individuals or households.

Frequency: Annually.

Respondent's Obligation: Mandatory.

Legal Authority: The Western and Central Pacific Fisheries Convention Implementation Act (WCPFCIA); 16 U.S.C. 6901 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0595.

Sheleen Dumas,
Departmental PRA Clearance Officer, Office of the Under Secretary for Economic Affairs, Commerce Department.

[FR Doc. 2024-22594 Filed 10-1-24; 8:45 am]

BILLING CODE 3510-22-P